DEPARTMENT OF HOMELAND SECURITY

Office of the Secretary

Privacy Act of 1974; Retirement of Department of Homeland Security Transportation Security Administration System of Records

AGENCY: Privacy Office, Department of Homeland Security.

ACTION: Notice of retirement of one Privacy Act system of records notice.

SUMMARY: In accordance with the Privacy Act of 1974, the Department of Homeland Security is giving notice that it will retire the following Privacy Act system of records notice, Department of Homeland Security/Transportation Security Administration-009 General Legal Records (August 18, 2003, 68 FR 49496), which was written to assist attorneys in the Office of Chief Counsel in providing legal advice to management and to cover general legal records and programs. The Transportation Security Administration will rely upon Department of Homeland Security/ALL-017 General Legal Records (November 23, 2011, 76 FR 72428) to cover its legal activities.

DATES: These changes will take effect upon publication.

FOR FURTHER INFORMATION CONTACT: For general questions please contact: Peter Pietra, Director, Privacy Policy and Compliance, TSA-36, Transportation Security Administration, 601 South 12th Street, Arlington, VA 20598-6036; email: TSAPrivacy@dhs.gov. For privacy issues please contact: Jonathan R. Cantor, (202-343-1717), Acting Chief Privacy Officer, Privacy Office, Department of Homeland Security, Washington, DC 20528.

SUPPLEMENTARY INFORMATION: Pursuant to the provisions of the Privacy Act of 1974, 5 U.S.C. 552a, and as part of its ongoing integration and management efforts, the Department of Homeland Security (DHS) is retiring the system of records notice, DHS/Transportation Security Administration (TSA)-009 General Legal Records (August 18, 2003, 68 FR 49496), which was written to assist attorneys in the Office of Chief Counsel in providing legal advice to TSA management on a wide variety of legal issues; to respond to claims by employees, former employees, and other individuals; to assist in the settlement of claims against the government; to represent TSA during litigation; and to maintain internal statistics from its inventory of record systems. TSA will rely upon DHS/ALL-017 General Legal Records (November 23, 2011, 76 FR 72428) to cover its legal activities.

Eliminating the system of records notice DHS/TSA-009 General Legal Records, will have no adverse impacts on individuals, but will promote the overall streamlining and management of DHS Privacy Act record systems.

Dated: November 6, 2012.
Jonathan R. Cantor,
Acting Chief Privacy Officer, Department of Homeland Security.

[FR Doc. 2012-28674 Filed 11-26-12; 8:45 am]

BILLING CODE 9110-05-P